DEPARTMENT OF ENERGY

Federal Energy Regulatory Commission

[Docket No. CP01-401-000]

Northern Natural Gas Company; Notice of Application

July 19, 2001.

Take notice that on July 13, 2001, Northern Natural Gas Company (Northern), P.O. Box 3330, Omaha, Nebraska 68103-0330, filed in Docket No. CP01-401-000, an application pursuant to Section 7(b) of the Natural Gas Act (NGA) for permission and approval to abandon, by sale to Wisconsin Gas Company (Wisconsin Gas), pipeline and related facilities, located in Walworth and Waukesha Counties, Wisconsin, and to abandon certain services rendered thereby, all as more fully set forth in the application which is on file with the Commission and open to public inspection. Copies of this filing are on file with the Commission and are available for public inspection. This filing may be viewed on the web at http://www.ferc.gov using the “RIMS” link, select “Docket#” from the RIMS Menu and follow the instructions (call (202) 208-2222 for assistance).

Northern proposes to abandon, by sale to Wisconsin Gas the last approximately 9 miles of 24-inch diameter pipeline and appurtenant facilities, which include certain piping, valves, and fittings located at Northern's LaGrange and Eagle Delivery points and valves, a pig receiver, cathodic protection equipment, and other related facilities associated with the 24-inch pipeline (East Leg facilities) and to abandon certain services rendered thereby. Northern also proposes to abandon the measurement equipment located at the LaGrange and Eagle delivery points. In addition, Northern proposes to abandon and remove the measurement equipment located at a dual farm tap setting. Northern states that these measurement facilities will no longer be required by Northern once the East Leg facilities are acquired by Wisconsin Gas, as proposed herein.

Northern states that Wisconsin Gas is a local distribution company and is exempt from the Commission's jurisdiction under the Hinshaw amendment. Northern declares that upon completion of the acquisition of facilities, Wisconsin Gas will integrate the facilities it acquires from Northern into its existing pipeline system and thus will operate the facilities as a part of its local distribution company system, which is exempt from the Commission's jurisdiction pursuant to Section 1(c) of the NGA, the Hinshaw exemption.

Therefore, Northern requests that the Commission make a determination that the subject facilities are exempt from the Commission's jurisdiction under Section 1(c) of the NGA upon approval of the proposed abandonment by Northern and the subsequent acquisition by Wisconsin Gas, and that Wisconsin Gas' acquisition and operation of the subject facilities will not affect Wisconsin Gas' exemption from Commission jurisdiction under Section 1(c) of the NGA or otherwise subject Wisconsin Gas to Commission jurisdiction.

Northern proposes to abandon all firm and interruptible transportation service provided on the subject facilities. Northern states that it has notified all firm shippers with primary delivery points located on the subject facilities of its intent to abandon the subject facilities by sale to Wisconsin Gas. Northern states that all firm shippers have the opportunity prior to abandonment of the subject facilities to realign firm entitlements currently assigned to point(s) on the subject facilities to any other valid transportation point(s) on Northern's pipeline system, subject to availability of capacity at such point(s) and Northern's FERC Gas Tariff.

Any questions regarding this amendment should be directed to Keith L. Petersen, Director, Certificates and Reporting, Northern Natural Gas Company, 1111 South 103rd Street, Omaha, Nebraska 68124, at (402) 398-7421, or Michelle Winckowski, Senior Regulatory Analyst, at (402) 398-7082.

There are two ways to become involved in the Commission's review of this project. First, any person wishing to obtain legal status by becoming a party to the proceedings for this project should, on or before August 9, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-18485 Filed 7-24-01; 8:45 am]

BILLING CODE 6717-01-P